NATIONAL SCIENCE FOUNDATION

Notice of the Networking and Information Technology Research and Development Fast Track Action Committee on Advancing Privacy-Preserving Data Sharing and Analytics Meetings

AGENCY: Networking and Information Technology Research and Development (NITRD) Program National Coordination Office (NCO), National Science Foundation.

ACTION: Notice of public meetings.

SUMMARY: Recognizing the opportunities presented by privacy-enhancing technologies (PETs) to harness the power of data and to enable increased collaboration across entities, sectors, and borders in a privacy-preserving and secure manner, the Office of Science and Technology Policy (OSTP), in partnership with the Subcommittee on Networking and Information Technology Research and Development of the National Science and Technology Council, initiated an interagency Fast Track Action Committee (FTAC), to develop a national strategy to advance the research, development, and adoption of privacy-preserving data sharing and analytics (PPDSA) technologies The FTAC is holding a series of virtual roundtables, open to the public, to provide an opportunity for broad stakeholder input into the development of the national strategy.

DATES:

1. Tuesday, June 7, 2022: 1:00-3:00 p.m. EDT, Roundtable on Vision

2. Thursday, June 9, 2022: 1:00-3:00 p.m. EDT, Roundtable on Technology

3. Friday, June 10, 2022: 1:00-3:00 p.m. EDT, Roundtable on Adoption and Use

ADDRESSES: The Roundtable sessions will be held virtually from 1:00-3:00 p.m. EDT on each of these dates: June 7, 2022; June 9, 2022; and June 10, 2022.

Instructions: Registration is required, and space is limited. Participation is open to the public on a first-come, first-served basis. Registration will be closed once capacity is reached. Interested persons or organizations are invited to register to participate in one or all the sessions at the following link: https://www.nitrd.gov/coordination-areas/privacy-rd/ftac-appdsa-roundtable-series/.

FOR FURTHER INFORMATION CONTACT: Jeri Hessman at Privacy-FTAC-RT@nitrd.gov or call at 202-459-9683.

Individuals who use a telecommunications device for the deaf (TDD) may call the Federal Information Relay Service (FIRS) at 1-800-877-8339 between 8 a.m. and 8 p.m., Eastern time, Monday through Friday.

SUPPLEMENTARY INFORMATION: Through the national strategy, the FTAC will put forth a vision for responsibly harnessing privacy-preserving data sharing and analytics to benefit individuals and society. It will also propose actions from research investments, to training and education initiatives, to the development of standards, policy, and regulations needed to achieve that vision.

To inform the development of these recommendations, the FTAC is arranging virtual roundtables to solicit input from a broad range of stakeholders, including representatives from academia, the private sector, and civil society. Each roundtable will be organized around a particular theme, described below:

1. Roundtable on Vision: Tuesday, June 7, 2022: 1:00-3:00 p.m. EDT.

Identification of characteristics of the future state that the national strategy should help achieve and guiding definitions and principles that the activities under the national strategy should follow.

2. Roundtable on Adoption and Use: Thursday, June 9, 2022: 1:00-3:00 p.m. EDT.

Identification of barriers and enablers to adoption and use of PPDSA technologies; and, identification of best practices and standards, including international considerations.

3. Roundtable on Technology: Friday, June 10, 2022: 1:00-3:00 p.m. EDT.

Understanding of the current state of PPDSA technologies and solutions; and identification of challenges, gaps and priorities in PPDSA research and development (R&D).

Submitted by the National Science Foundation in support of the Networking and Information Technology Research and Development (NITRD) National Coordination Office (NCO) on May 27, 2022.

Suzanne H. Plimpton,
Reports Clearance Officer, National Science Foundation.

[FR Doc. 2022-11857 Filed 6-2-22; 8:45 am]

BILLING CODE 7555-01-P